CONSUMER PRODUCT SAFETY COMMISSION

[Docket No. CPSC-2012-0054]

Agency Information Collection Activities; Extension of Collection; Comment Request; Safety Standard for Automatic Residential Garage Door Operators

AGENCY: Consumer Product Safety Commission.

ACTION: Notice of Information Collection; Request for Comment.

SUMMARY: As required by the Paperwork Reduction Act of 1995 (PRA), the Consumer Product Safety Commission (CPSC or Commission) requests comments on a proposed extension of approval of information collection requirements associated with the Safety Standard for Automatic Residential Garage Door Operators. The Office of Management and Budget (OMB) previously approved the collection of information under control number 3041-0125. OMB's most recent extension of approval will expire on September 30, 2025. The Commission will consider all comments received in response to this notice before requesting an extension of this collection of information from OMB.

DATES: Submit comments on the collection of information by August 22, 2025.

ADDRESSES: You may submit comments, identified by Docket No. CPSC-2012-0054, within 60 days of publication of this notice by any of the following methods:

Electronic Submissions: Submit electronic comments to the Federal eRulemaking Portal at: https://www.regulations.gov. Follow the instructions for submitting comments. Do not submit through this website: confidential business information, trade secret information, or other sensitive or protected information that you do not want to be available to the public. The Commission typically does not accept comments submitted by email, except as described below.

Mail/Hand Delivery/Courier/Written Submissions: CPSC encourages you to submit electronic comments by using the Federal eRulemaking Portal. You may, however, submit comments by mail/hand delivery/courier to: Office of the Secretary, U.S. Consumer Product Safety Commission, 4330 East-West Highway, Bethesda, MD 20814; telephone (301) 504-7479.

Instructions: All submissions received must include the agency name and docket number for this notice. CPSC may post all comments without change, including any personal identifiers, contact information, or other personal information provided, to: https://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2012-0054 into the “Search” box, and follow the prompts.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Standard for Automatic Residential Garage Door Operators.

OMB Number: 3041-0125.

Type of Review: Renewal of collection.

Frequency of Response: On occasion.

Affected Public: Manufacturers, importers, and private labelers of automatic residential garage door operators.

General Description of Collection: On December 22, 1992, the Commission issued rules prescribing requirements for a reasonable testing program to support certificates of compliance with the Safety Standard for Automatic Residential Garage Door Operators (57 FR 60449). These regulations also require manufacturers, importers, and private labelers of residential garage door operators to establish and maintain records to demonstrate compliance with the requirements for testing to support certification of compliance. 16 CFR part 1211, subparts B and C.

Estimated Number of Respondents: An estimated 17 firms that conduct performance tests and maintain records based on the test results to retain UL certification and verify compliance with the rule.

Estimated Time per Response: Based on staff's review of industry sources, each respondent will spend an estimated 40 hours (35 hours for PRA burden associated with testing and 5 hours for recordkeeping) annually on the collection of information related to the rule.

Total Estimated Annual Burden: 680 hours (17 firms × 40 hours).

Total Estimated Annual Cost to Respondents: Using compensation data available from the U.S. Bureau of Labor Statistics (BLS), Employer Costs for Employee Compensation (December 2024, https://www.bls.gov/news.release/archives/ecec_03142025.pdf), staff estimates that the total annual cost of the PRA burden associated with the testing requirement is estimated to be about $45,101, based on an hourly rate of $75.80 as total compensation for management, professional, and related occupations in goods-producing private industries (17 firms × 35 hours × $75.80). Staff also estimates that the total annual cost of the recordkeeping burden is estimated to be about $3,472 based on an hourly rate of $40.85 for sales and office workers (17 firms × 5 hours × $40.85). Therefore, the total burden cost is about $48,573 ($45,101 + $3,472). This estimate includes professional and clerical time that may be spent to retrieve product data from automated or other records systems, explain firm practices/policies intended to assure compliance with the standard, or accompany Commission personnel during inspections.

Request for Comments: The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2025-11447 Filed 6-20-25; 8:45 am]

BILLING CODE 6355-01-P